DEPARTMENT OF ENERGY

Federal Energy Regulatory Commission

[Project No. 2391-053, Project No. 2425-057, Project No. 2509-051]

PE Hydro Generation, LLC; Notice of Scoping Meetings and Environmental Site Reviews and Soliciting Scoping Comments

Take notice that the following hydroelectric applications have been filed with the Commission and is available for public inspection.

a. Type of Applications: Subsequent Minor, New Major License, Subsequent Minor.

b. Project Nos.: P-2391-053, P-2425-057, and P-2509-051.

c. Date Filed: January 3, 2022.

d. Applicant: PE Hydro Generation, LLC.

e. Names of Projects: Warren Hydroelectric Project, Luray and Newport Hydroelectric Project, and Shenandoah Hydroelectric Project.

f. Locations: The Warren Project is on the Shenandoah River near the Town of Front Royal in Warren County, Virginia. The two-development Luray and Newport Project is located on the South Fork of the Shenandoah River near the Towns of Luray (Luray Development) and Newport (Newport Development) in Page County, Virginia. The Shenandoah Project is located on the South Fork of the Shenandoah River near the Town of Shenandoah in Page and Rockingham, Counties, Virginia. The projects do not occupy any federal land.

g. Filed Pursuant to: Federal Power Act 16 U.S.C. 791(a)-825(r).

h. Applicant Contact: Ms. Jody Smet, Vice President, Regulatory Affairs, PE Hydro Generation, LLC, 7315 Wisconsin Ave., Suite 1100W, Bethesda, MD 20814; Phone at (240) 482-2700 or email at jody.smet@eaglecreekre.com.

i. FERC Contact: Kristine Sillett at (202) 502-6575; or email at kristine.sillett@ferc.gov.

j. Deadline for filing scoping comments: June 12, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx.

You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: Warren Project No. 2391-053, and/or Luray and Newport Project No. 2425-057, and/or the Shenandoah Project No. 2509-051.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. Project Descriptions: The Warren Project consists of: (1) a 15.3-foot-high, 527-foot-long, reinforced concrete dam; (2) a 105-acre impoundment with a storage capacity of 900 acre-feet; (3) a 44-foot-wide headgate structure with four 4.5-foot by 8-foot gates; (4) a 350-foot-long headrace canal; (5) an 82-foot-long, 30-foot-wide powerhouse containing 3 Francis turbine/generating units with a total installed capacity of 750 kW; (6) 360-foot-long, 2.4-kilovolt (kV) project generator lines; (7) a substation containing a 3-phase, 2.4/34.5-kV transformer where interconnection with the grid occurs; and (8) other appurtenances. The project creates an approximately 550-foot-long bypassed reach of the Shenandoah River.

The Luray Development of the two-development Luray and Newport Project, on the South Fork of the Shenandoah River, consists of: (1) a 21.9-foot-high, 530-foot-long reinforced concrete dam; (2) a 126-acre impoundment with a storage capacity of 880 acre-feet; (3) a 100-foot-long, 27.5-foot-wide powerhouse, adjacent to the south end of the dam, containing three Francis turbine/generating units having a total installed capacity of 1,600 kW; (4) 35-foot-long, 2.4-kilovolt (kV) project generator lines; (5) a substation containing a 3-phase, 2.4/34.5-kV transformer where interconnection with the grid occurs; and (6) other appurtenances.

The Newport Development of the Luray and Newport Project consists of: (1) a 28.8-foot-high, 443-foot-long reinforced concrete dam; (2) a 103-acre impoundment with a storage capacity of 1,090 acre-feet; (3) a 73.5-foot-long, 21.2-foot-wide powerhouse adjacent to the north end of the dam, with three Francis turbine/generating units with a total installed capacity of 1,400 kW; (4) 150-foot-long, 2.4-kilovolt (kV) project generator lines; (5) a substation containing a 3-phase, 2.4/34.5-kV transformer where interconnection with the grid occurs; and (5) other appurtenances.

The Shenandoah Project consists of: (1) a 15-foot-high, 495-foot-long reinforced concrete dam; (2) a 30-acre impoundment with a storage capacity of 190 acre feet; (3) a 91-foot-long, 38-foot-wide powerhouse adjacent to the north end of the dam, with four generating units having a total installed capacity of 862 kW; (4) 180-foot-long, 2.4-kilovolt (kV) project generator lines; (5) a substation containing a 3-phase, 2.4/34.5-kV transformer where interconnection with the grid occurs; and (6) other appurtenances.

As required by their licenses, the Warren, Luray and Newport, and Shenandoah Projects all currently operate in run-of-river mode, or inflow, whichever is less, at all times. Run-of-river flow allowing, PE Hydro maintains each reservoir surface at an elevation at least 1.0 inches above the spillway crest, thus providing a 1-inch veil flow over each dam. When flows are in excess of the flow required to maintain the 1-inch veil flow, PE Hydro typically commences generation using the available flows. When flows exceed the combined capacity of the projects' turbines, excess flows are passed over the spillway dam. To enhance downstream eel passage, PE Hydro provides nightly shutdowns of the projects' generating facilities from September 15 through December 15.

PE Hydro proposes to continue to operate the Warren, Luray and Newport, and Shenandoah Projects with the following environmental measures: (1) maintain run-of-river operation at the projects; (2) continue to provide a minimum 1-inch veil flow of water over each dam, or inflow to the project reservoirs, whichever is less; (3) develop a downstream operations eel passage plan for each project within one year of license issuance; (4) continue night-time shutdowns at the projects from September 15 through December 15 to protect eels migrating downstream until the implementation of a downstream operations eel passage plan; (5) conduct a radio telemetry study for eels migrating upstream at the Warren Project and Luray Development; (6) develop an upstream eel passage plan for each project within six months of license issuance based on the results of the radio telemetry study; (7) continue to maintain the canoe portage trail, including the take-out and put-in areas at the Warren Project; (8) continue to maintain the Luray Development Tailwater Fishing Pier, including the parking area, fishing pier, and gravel path; (9) continue to maintain the canoe portage trail, including the take-out and put-in areas at the Newport Development; (10) continue to maintain the canoe portage trail, including the take-out and put-in areas at the Shenandoah Project; and (11) continue to implement the existing Commission-approved Cultural Resources Management Plan for the projects.

m. Copies of the applications can be viewed on the Commission's website at https://www.ferc.gov using the “eLibrary” link. Enter the project's docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

n. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two scoping meetings for the projects to receive input on the scope of the NEPA document. An evening meeting will be held at 7:00 p.m. on May 16, 2023, at the Mimslyn Inn in Luray, Virginia, and will focus on receiving input from the public. A daytime meeting will be held at 10:00 a.m. on May 17, 2023, at the same location, and will focus on the concerns of resource agencies, non-governmental organizations (NGOs), and Native American tribes. We invite all interested agencies, Indian Tribes, non-governmental organizations, and individuals to attend one or both of these meetings. The times and locations of these meetings are as follows:

Evening Scoping Meeting

Date: Tuesday, May 16, 2023.

Time: 7:00 p.m. (EDT).

Place: Mimslyn Inn (Blue Ridge Room).

Address: 401 W Main St., Luray, VA 22835.

Daytime Scoping Meeting

Date: Wednesday, May 17, 2023.

Time: 10:00 a.m. (EDT).

Place: Mimslyn Inn (Blue Ridge Room).

Address: 401 W Main St., Luray, VA 22835.

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Reviews

The applicant and Commission staff will conduct environmental site reviews of the projects. All interested individuals, agencies, tribes, and NGOs are invited to attend. All participants are responsible for their own transportation to the sites and during the site visits. Please RSVP via email to joyce.foster@eaglecreekre.com or notify Joyce Foster at 804-338-5110 on or before May 9, 2023, if you plan to attend the environmental site reviews. The times and locations of the environmental site reviews are as follows:

Luray and Newport, and Shenandoah Hydroelectric Projects

Date: Tuesday, May 16, 2023.

Time: 9:30 a.m. (EDT).

Place: Luray and Newport Hydroelectric Project: Luray Development.

Address: 650 Power Dam Road, Luray, VA 22835.

Participants will meet in the Luray Development parking lot; after the site visit for the Luray Development, we will travel to the Newport Development, located off U.S. Highway 340 near the intersection of U.S. Highway Business 340 and U.S. Highway 340. After the site visit for the Luray and Newport Project, we will travel to the Shenandoah Hydroelectric Project, located at 575 Long Avenue, Shenandoah, VA 22849.

Warren Hydroelectric Project

Date: Wednesday, May 17, 2023.

Time: 1:30 p.m. (EDT).

Place: Warren Hydroelectric Project.

Address: 106 Bennys Beach Road, Front Royal, VA 22630.

All persons attending the environmental site reviews must adhere to the following requirements: (1) all persons must wear sturdy, closed-toe shoes or boots; (2) persons with open-toed shoes/sandals/flip flops/high heels, etc. will not be allowed on the environmental site reviews; (3) persons must be 18 years or older; (4) no photography will be allowed inside the powerhouses; (5) no weapons are allowed on-site; (6) no alcohol/drugs are allowed on-site (or persons exhibiting the effects thereof); and (7) no animals (except for service animals) are allowed on the environmental site reviews.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Native American tribes, and agencies with environmental expertise and concerns are encouraged to attend the meeting and to assist the staff in defining and clarifying the issues to be addressed in the NEPA document.

Dated: April 13, 2023.
Kimberly D. Bose,
Secretary.

[FR Doc. 2023-08319 Filed 4-19-23; 8:45 am]

BILLING CODE 6717-01-P